DEPARTMENT OF HEALTH AND HUMAN SERVICES

Administration for Children and Families

Proposed Information Collection Activity; Assessing the Implementation and Cost of High Quality Early Care and Education: Field Test (0970-0499)

AGENCY: Office of Planning, Research, and Evaluation, Administration for Children and Families, HHS.

ACTION: Request for public comment.

SUMMARY: This information request is part of the project, Assessing the Implementation and Cost of High Quality Early Care and Education (ECE-ICHQ). The project's goal is to create a technically sound and feasible instrument that will provide consistent, systematic measures of the implementation and costs of education and care in center-based settings that serve children from birth to age 5. The resulting measures will inform research, policy, and practice by improving understanding of variations in what centers do to support quality, their associated costs, and how resources for ECE may be better aligned with expectations for quality.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written should be identified by the title of the information collection.

SUPPLEMENTARY INFORMATION:

Description: The Administration for Children and Families (ACF) at the U.S. Department of Health and Human Services (HHS) seeks approval to collect new information to use in testing measures of the implementation and costs of high quality early care and education. This information collection is part of the project, Assessing the Implementation and Cost of High Quality Early Care and Education (ECE-ICHQ). The project's goal is to create a technically sound and feasible instrument that will provide consistent, systematic measures of the implementation and costs of education and care in center-based settings that serve children from birth to age 5. The resulting measures will inform research, policy, and practice by improving understanding of variations in what centers do to support quality, their associated costs, and how resources for ECE may be better aligned with expectations for quality. The goals of the study are (1) to test and refine a data collection approach to gather information about implementation activities and costs of key functions within ECE centers and (2) to develop new measures of implementation and costs for use together in understanding ways to support quality. The study has completed two phases of data collection to develop the data collection tools and measures. The study team collected data through on-site visits to 15 centers as part of an initial phase of data collection to pre-test information collections (data collected under clearance #0970-0355). A second phase (OMB #0970-0499) relied on remote data collection through an electronic cost workbook, telephone interviews, and web-based surveys to gather information from 30 centers in three states to develop preliminary measures of implementation and cost and further reduced and refined the data collection tools.

This proposed new information collection is focused on a field test of the measures to assess the psychometric properties of the implementation measures and to examine the associations between measures of implementation, cost, and quality. The field test will include a mix of remote and on-site data collection.

Respondents: ECE site administrators or center directors, program directors, education specialists, financial managers or accountants, teachers, and aides.

Annual Burden Estimates:

Instrument | Number of respondents | Number of responses per respondent | Average burden hours per response | Total burden hours
Center recruitment call (to gain participation; assumes outreach to 10 centers for every 1 center needed):
Center director | 800 | 1 | .33 | 264
Umbrella organization administrator | 75 | 1 | .33 | 25
Center engagement call (to gather basic characteristics and plan steps for participation; assumes 20% may withdraw after this step) | 100 | 1 | .50 | 50
Implementation interview protocol:
Center director | 80 | 1 | 3 | 240
Additional center staff | 20 | 1 | 3 | 60
Electronic cost workbook | 80 | 1 | 8 | 640
Staff rosters for time use survey | 80 | 1 | .25 | 20
Time-use survey | 1,120 | 1 | .25 | 280
Classroom rosters for observations | 80 | 1 | .50 | 40
Total Burden |  |  |  | 1,619

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act § 418 as extended by the Continuing Appropriations Act of 2017 and the TANF Extension Act of 2019.

Mary B. Jones,
ACF/OPRE Certifying Officer.

[FR Doc. 2019-12796 Filed 6-17-19; 8:45 am]

BILLING CODE 4184-23-P